DEPARTMENT OF DEFENSE

Office of the Secretary

[Req No. OS-2024 00031-FR]

Defense Business Board; Notice of Federal Advisory Committee Meeting

AGENCY: Office of the Deputy Secretary of Defense, Department of Defense (DoD).

ACTION: Notice of Federal advisory committee meeting.

SUMMARY: The DoD is publishing this notice to announce that the following Federal advisory committee meeting of the Defense Business Board (“the Board”) will take place.

DATES: Closed to the public Tuesday, November 14, 2023 from 9:15 a.m. to 11:20 a.m. Eastern Standard Time (EST) and from 5:30 p.m. to 7:35 p.m. EST and on Wednesday, November 15 from 10:55 a.m. to 11:35 a.m. EST. Open to the public Tuesday, November 14 from 11:25 a.m. to 12:30 p.m. EST and from 1:45 p.m. to 4:45 p.m. EST and on Wednesday, November 15, 2023 from 9 a.m. to 10:45 a.m. EST.

ADDRESSES: The open and closed portions of the meeting will be in rooms 1E840 and 4D880 in the Pentagon, Washington DC.

FOR FURTHER INFORMATION CONTACT: Ms. Cara Allison Marshall, Designated Federal Officer (DFO) of the Board in writing at Defense Business Board, 1155 Defense Pentagon, Room 5B1088A, Washington, DC 20301-1155; or by email at cara.l.allisonmarshall.civ@mail.mil; or by phone at 703-614-1834.

SUPPLEMENTARY INFORMATION: Due to circumstances beyond the control of the Designated Federal Officer, the Defense Business Board was unable to provide public notification required by 41 CFR 102-3.150(a) concerning its November 14-15, 2023 meeting. Accordingly, the Advisory Committee Management Officer for the Department of Defense, pursuant to 41 CFR 102-3.150(b), waives the 15-calendar day notification requirement.

This meeting is being held under the provisions of chapter 10 of title 5, United States Code (U.S.C.) (commonly known as the “Federal Advisory Committee Act” or “FACA”), 5 U.S.C. 552b (commonly known as the “Government in the Sunshine Act”), and 41 CFR 102-3.140 and 102-3.150.

Purpose of the Meeting: The mission of the Board is to examine and advise the Secretary of Defense on overall DoD management and governance. The Board provides independent, strategic-level, private sector and academic advice and counsel on enterprise-wide business management approaches and best practices for business operations and achieving National Defense goals.

Agenda: The Board will begin in closed session on November 14 from 9:15 a.m. to 11:20 a.m. EST. The DFO will begin the closed session followed by a welcome by Board Chair, Honorable (Hon.) Deborah James. The Board will receive a classified discussion on the DoD Budget from Hon. Kathleen Hicks, Deputy Secretary of Defense, followed by a classified overview on Acquiring Capabilities for the United States Space Force (Space Force) from Lieutenant Colonel Raquel Salim, Space Force, Program Element Monitor, Space Domain Awareness & Space Control. This briefing will provide an overview of the Space Force mission, organizational structure, leadership, capabilities, and space acquisition. The DFO will adjourn the closed session. The Board will meet in open session November 14 from 11:25 a.m. to 12:30 p.m. EST. The DFO will open the public session followed by a welcome by the Board Chair. The Board will receive an update on DoD Talent Management from Mr. Brynt Parmeter, Chief Talent Management Officer, and Ms. Angela Cough, Chief Digital and Artificial Intelligence Office Senior Advisor, Digital Workforce Talent & Functional Community Management. After a lunch break, the Board will resume their open session from 1:45 p.m. to 4:45 p.m. EST. The Board Chair will provide remarks, followed by a discussion on Enterprise Digitization: Emerging Technologies and Ecosystem Strategy at the Speed of Artificial Intelligence from Mr. Ryan McManaus, Founder and CEO of Techtonic. After a short break, the Board will receive a presentation on the Board study, Improving the Business Operations Culture of the DoD from General (Gen.) Larry Spencer (Ret), Chair, Talent Management, Culture, & Diversity Subcommittee, and then the Board will deliberate and vote on the study. The DFO will then adjourn the open session. The Board will reconvene in closed session on November 14 from 5:30 p.m. to 7:35 p.m. EST. The DFO will begin the closed session followed by remarks by Board Chair, Hon. Deborah James and Deputy Secretary, Hon. Kathleen Hicks. Next, the Board will hear a classified update on the United States Army's Future Development and Joint Integration from Gen. Randy George, Chief of Staff of the Army. The DFO will adjourn the closed session. The Board will meet in open session November 15, 2023 from 9:00 a.m. to 10:45 a.m. EST. The DFO will begin the closed session followed by the Chair's welcome. Next the Board will receive a presentation on the Board Space Acquisition study from Ms. Linnie Haynesworth, Chair, Business Operations Advisory Subcommittee, and then the Board will deliberate and vote on the study. The DFO will adjourn the open session. The Board will reconvene in closed session on November 15 from 10:55 a.m. to 11:35 a.m. EST. The DFO will begin the closed session followed by a classified discussion on DoD Current Affairs from Hon. Lloyd Austin, Secretary of Defense. The DFO will then adjourn the closed session.

The latest version of the agenda will be available on the Board's website at: https://dbb.dod.afpims.mil/Meetings/Meeting-November-2023/.

Meeting Accessibility: In accordance with 5 U.S.C. 1009(d) and 41 CFR 102-3.155, it is hereby determined that the November 14-15 meeting of the Board will include classified information and other matters covered by 5 U.S.C. 552b(c)(1) and that, accordingly, portions of the meeting will be closed to the public. This determination is based on the consideration that it is expected that discussions throughout the closed portions will involve classified matters of national security. Such classified material is so intertwined with the unclassified material that it cannot reasonably be segregated into separate discussions without defeating the effectiveness and meaning of these portions of the meeting. To permit these portions of the meeting to be open to the public would preclude discussion of such matters and would greatly diminish the ultimate utility of the Board's findings and recommendations to the Secretary of Defense and the Deputy Secretary of Defense. Pursuant to 5 U.S.C. 1009(a)(1) and 41 CFR 102-3.140, the portions of the meeting on November 14 from 11:25 a.m. to 12:30 p.m. EST and from 1:45 p.m. to 4:45 p.m. EST and on November 15, 2023 from 9 a.m. to 10:45 a.m. EST are open to the public virtually. Persons desiring to attend the public sessions are required to register. To attend the public sessions, submit your name, affiliation/organization, telephone number, and email contact information to the Board at osd.pentagon.odam.mbx.defense-business-board@mail.mil. Requests to attend the public sessions must be received no later than 4:00 p.m. EST on Friday, November 10, 2023. Upon receipt of this information, the Board will provide further instructions for virtually attending the meeting.

Written Comments and Statements: Pursuant to 41 CFR 102-3.105(j) and 102-3.140 and 5 U.S.C. 1009(a)(3) of the FACA, the public or interested organizations may submit written comments or statements to the Board in response to the stated agenda of the meeting or regarding the Board's mission in general. Written comments or statements should be submitted to Ms. Cara Allison Marshall, the DFO, via electronic mail (the preferred mode of submission) at the address listed in the FOR FURTHER INFORMATION CONTACT section. Each page of the comment or statement must include the author's name, title or affiliation, address, and daytime phone number. The DFO must receive written comments or statements submitted in response to the agenda set forth in this notice by Friday, November 10, 2023, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: October 30, 2023.
Aaron T. Siegel,
Alternate OSD Federal Register Liaison Officer, Department of Defense.

[FR Doc. 2023-24451 Filed 11-3-23; 8:45 am]

BILLING CODE 6001-FR-P